DEPARTMENT OF COMMERCE

Patent and Trademark Office

Submission for OMB Review; Comment Request; “Invention Promoters/Promotion Firms Complaints”

The United States Patent and Trademark Office (USPTO) will submit to the Office of Management and Budget (OMB) for clearance the following proposal for collection of information under the provisions of the Paperwork Reduction Act of 1995.

Agency: United States Patent and Trademark Office, Commerce.

Title: Invention Promoters/Promotion Firms Complaints.

OMB Control Number: 0651-0044.

Form Number(s):

• PTO/SB/2048

Type of Request: Regular.

Number of Respondents: 22 respondents per year.

Average Hours per Response: The USPTO estimates that it will take the public approximately 15 minutes (0.25 hours) to gather the necessary information, prepare the complaint, and submit the complaint to the USPTO and approximately 30 minutes (0.50 hours) for an invention promoter or promotion firm to prepare and submit a response to a complaint.

Burden Hours: 8 hours per year.

Cost Burden: $245.50 per year.

Needs and Uses: The public uses this information collection to submit a complaint to the USPTO regarding an invention promoter or promotion firm. The USPTO requests responses from the subjects of the complaints as required by the Inventors' Rights Act of 1999 and then publishes the complaints and responses. To ensure that the public provides the minimum information necessary to process the complaint under this program, the USPTO provides a form that the public may use to submit a complaint. However, the USPTO is not required to enforce the provisions of the Inventors' Rights Act, investigate the complaints, or participate in any legal proceedings against the invention promoter.

Affected Public: Businesses or other for profits; not for-profit institutions.

Frequency: On occasion.

Respondent's Obligation: Required to Obtain or Retain Benefits.

OMB Desk Officer: Nicholas A. Fraser, email: Nicholas_A._Fraser@omb.eop.gov.

Once submitted, the request will be publicly available in electronic format through www.reginfo.gov. Follow the instructions to view Department of Commerce collections currently under review by OMB.

Further information can be obtained by:

• Email: InformationCollection@uspto.gov. Include “0651-0044 information request” in the subject line of the message.

• Mail: Marcie Lovett, Records and Information Governance Branch Chief, Office of Administrative Services, Office of the Chief Administrative Officer, United States Patent and Trademark Office, P.O. Box 1450, Alexandria, VA 22313-1450.

Written comments and recommendations for the proposed information collection should be sent on or before May 30, 2019 to Nicholas A. Fraser, OMB Desk Officers, via email to Nicholas_A._Fraser@omb.eop.gov, or by fax to 202-395-5167, marked to the attention of Nicholas A. Fraser.

Marcie Lovett,
Records and Information Governance Branch Chief, OAS, OCAO, United States Patent and Trademark Office.

[FR Doc. 2019-08674 Filed 4-29-19; 8:45 am]

BILLING CODE 3510-16-P